INTERNATIONAL TRADE COMMISSION

[Investigation No. 337-TA-731]

In the Matter of Certain Toner Cartridges and Components Thereof; Determination Not To Review an Initial Determination; Issuance of a Consent Order; and Termination of the Investigation

AGENCY: U.S. International Trade Commission.

ACTION: Notice.

SUMMARY: Notice is hereby given that the U.S. International Trade Commission has determined not to review the presiding administrative law judge's (“ALJ”) initial determination (“ID”) (Order No. 11) granting Complainants' and Respondents' joint motion to terminate the investigation based upon entry of a consent order.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 30, 2010, based on a complaint filed by Canon Inc. of Tokyo, Japan; Canon U.S.A., Inc. of Lake Success, New York; and Canon Virginia, Inc. of Newport News, Virginia (collectively, “Canon”) on June 28, 2010. 75 FR 44988 (July 30, 2010). The complaint alleged violations of section 337 of the Tariff Act of 1930 (19 U.S.C. 1337) in the importation into the United States, the sale for importation, or the sale within the United States after importation of certain toner cartridges and components thereof by reason of infringement of various claims of United States Patent Nos. 5,903,803 and 6,128,454. The complaint named as respondents Ninestar Image Int'l, Ltd. of Zhuhai, China; Ninestar Technology Co., Ltd. of Zhuhai, China; Ninestar Management Co., Ltd. of Zhuhai, China; Zhuhai Seine Technology Co. of Zhuhai, China; Seine Image Int'l Co. of Shatin, Hong Kong; Ninestar Image Co., Ltd. of Shatin, Hong Kong; Ziprint Image Corp. of Walnut, California; Nano Pacific Corp. of South San Francisco, California; Ninestar Tech. Co., Ltd. of City of Industry, California; Town Sky, Inc. of South San Francisco, California; ACM Technologies, Inc. of Corona, California; LD Products, Inc. of Long Beach, California; Printer Essentials.com, Inc. of Reno, Nevada; XSE Group, Inc., d/b/a Image Star of Middletown, Connecticut; Copy Technologies, Inc., d/b/a ITM Corporation of Atlanta, Georgia; Red Powers, Inc., d/b/a LaptopTraveller.com of Alhambra, California; Direct Billing International, Inc., d/b/a OfficeSupplyOutfitters.com of Carlsbad, California; Compu-Imaging, Inc. of Doral, Florida; EIS Office Solutions, Inc. of Houston, Texas; and 123 Refills, Inc. of Irwindale, California (collectively, “Respondents”).

On April 6, 2011, Canon and Respondents filed a joint motion to terminate the investigation in its entirety based upon entry of a consent order. On April 7, 2011, the Commission investigative attorney filed a response in support of the joint motion. No other responses to the motion were filed.

On April 8, 2011, the ALJ issued the subject ID, granting the joint motion to terminate the investigation in its entirety. The ALJ found that the consent order stipulation complied with the requirements of Commission Rule 210.21(c)(3) (19 CFR 210.21(c)(3)) and would not be contrary to the public interest. None of the parties petitioned for review of the ID.

The Commission has determined not to review the ID and to issue a consent order. Accordingly, this investigation is terminated.

The authority for the Commission's determination is contained in Section 337 of the Tariff Act of 1930, as amended (19 U.S.C. 1337), and in section 210.42 of the Commission's Rules of Practice and Procedure (19 CFR 210.42).

Issued: May 5, 2011.
By order of the Commission.
James R. Holbein,
Acting Secretary to the Commission.

[FR Doc. 2011-11450 Filed 5-16-11; 8:45 am]

BILLING CODE 7020-02-P